ENVIRONMENTAL PROTECTION AGENCY

[OPP-2005-0168; FRL-7722-8]

Soil Fumigant Assessments; Notice of Public Meeting

AGENCY: Environmental Protection Agency (EPA).

ACTION: Notice.

SUMMARY: EPA will hold a public meeting to present to interested stakeholders the Agency's risk assessments for four soil fumigant pesticides: dazomet, metam sodium, methyl bromide, and 1,3-D or Telone. This public meeting, known as a “Technical Briefing,” will provide an opportunity for stakeholders to learn more about the data, information, and methodologies that the Agency used in developing its risk assessments for these pesticides. EPA is concurrently assessing six soil fumigants, including these four pesticides, to ensure that its risk assessment approaches are consistent, and to ensure that risk tradeoffs and economic outcomes can be adequately predicted in reaching risk management decisions. Risk assessments for two other soil fumigants, chloropicrin and a new active ingredient, iodomethane, will follow about a month later due to recently submitted data which are currently under review.

DATES: The meeting will be held on July 13, 2005, from 8:30 a.m. to 5 p.m.

ADDRESSES: The meeting will be held at Sheraton Suites Alexandria, 801 North Saint Asaph St., Alexandria, VA 22314; telephone number: (703) 836-4700.

FOR FURTHER INFORMATION CONTACT: John Leahy, Special Review and Reregistration Division (7508C), Office of Pesticide Programs, Environmental Protection Agency, 1200 Pennsylvania Ave., NW., Washington, DC 20460-0001; telephone number: (703) 305-6703; fax number: (703) 308-8005; e-mail address: leahy.john@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established an official public docket for this action under docket identification (ID) number OPP-2005-0168. The official public docket consists of this Federal Register Notice, and other information related to the Technical Briefing. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, to access the index listing of the contents of the official public docket, and to access those documents in the public docket that are available electronically. Although not all docket materials may be available electronically, you may still access any of the publicly available docket materials through the docket facility identified in Unit I.B.1. Once in the system, select “search,” then key in the appropriate docket ID number.

II. Background

This document announces EPA's intent to hold a public meeting or Technical Briefing to present to interested stakeholders the Agency's risk assessments for the soil fumigant pesticides dazomet, metam sodium, methyl bromide, and 1,3-D or Telone. EPA is assessing risks and will develop risk management decisions for five soil fumigants, including dazomet, metam sodium, and methyl bromide, plus chloropicrin and a new active ingredient, iodomethane. 1,3-D risks will be discussed for comparative purposes; however, the Agency's risk management decision for 1,3-D was completed in September 1998. Risk assessments for chloropicrin and iodomethane will follow about a month later due to recently submitted data which are currently under review. The Technical Briefing is part of EPA's process to involve the public in developing pesticide registration and reregistration eligibility decisions. Through these programs, the Agency is ensuring that all pesticides meet current health and safety standards.

At the Technical Briefing, EPA will describe the risk assessments and the data, information and methodologies used in developing them. Stakeholders will have an opportunity to ask clarifying questions. On the day of the Technical Briefing, the soil fumigant risk assessments and related documents will be available in their respective pesticide Dockets and EDOCKET on the Agency's web site. These docket ID numbers will be as follows: Methyl bromide (OPP-2005-0123), 1,3-D (OPP-2005-0124), metam sodium (OPP-2005-0125), and dazomet (OPP-2005-0128). EPA will solicit public comment on the risk assessments and related documents through Federal Register notices of availability, which are scheduled to be published on the day of the Technical Briefing.

After considering public comments received, EPA will revise the risk assessments for dazomet, metam sodium, methyl bromide, and 1,3-D (and later for chloropicrin and iodomethane) and develop any needed risk mitigation. Stakeholders and the public will have opportunities, including stakeholder meetings during public comment periods, to review the revised risk assessments and provide ideas and recommendations on risk mitigation options.

EPA is evaluating the soil fumigants to ensure that its risk assessment approaches are consistent, and to ensure that risk tradeoffs and economic outcomes can be adequately predicted in reaching risk management decisions. Using this approach, the Agency expects to address risks of concern while maintaining key use benefits.

List of Subjects

Environmental protection, Pesticides and pests.

Dated: June 23, 2005.
Debra Edwards,
Director, Special Review and Reregistration Division, Office of Pesticide Programs.

[FR Doc. 05-12917 Filed 6-28-05; 8:45 am]

BILLING CODE 6560-50-S